ENVIRONMENTAL PROTECTION AGENCY

40 CFR Parts 52, 62 and 70

[EPA-R07-OAR-2015-0006; FRL 9923-67-Region 7]

Approval and Promulgation of Air Quality Implementation Plans, State Plans for Designated Facilities and Pollutants, and Operating Permits Program; State of Missouri

AGENCY: Environmental Protection Agency.

ACTION: Proposed rule.

SUMMARY: The Environmental Protection Agency (EPA) is proposing to approve revisions to the State Implementation Plan (SIP) and the operating permits program for the State of Missouri which were received on November 6, 2013, November 20, 2014, March 27, 2014, July 7, 2014, and July 14, 2014. The revisions submitted by the state include amendments to rules relating to reference methods, definitions and common reference tables, ambient air quality standards, and a rule rescission related to air quality control measures for sources clustered in small land areas. Many of the revisions are administrative in nature and either incorporate by reference or update state rules to match Federal regulations. Some are more substantive, but are non-controversial. In addition, they provide more clarity for the regulated public. This direct final action will amend the SIP to include revised regulations which will then be more consistent with Federal regulations. These revisions do not have an adverse effect on air quality. EPA's proposed approval of these rule revisions is being done in accordance with the requirements of the Clean Air Act (CAA).

DATES: Comments on this proposed action must be received in writing by April 3, 2015.

ADDRESSES: Submit your comments, identified by Docket ID No. EPA-R07-OAR-2015-0006, by mail to Amy Bhesania, Environmental Protection Agency, Air Planning and Development Branch, 11201 Renner Boulevard, Lenexa, Kansas 66219. Comments may also be submitted electronically or through hand delivery/courier by following the detailed instructions in the ADDRESSES section of the direct final rule located in the rules section of this Federal Register.

FOR FURTHER INFORMATION CONTACT: Amy Bhesania, Environmental Protection Agency, Air Planning and Development Branch, 11201 Renner Boulevard, Lenexa, Kansas 66219 at (913) 551-7147, or by email at bhesania.amy@epa.gov.

SUPPLEMENTARY INFORMATION: EPA is proposing to approve revisions to the State Implementation Plan (SIP), the 40 CFR part 62 state plans (111(d)), and the 40 CFR part 70 operating permits program, for the State of Missouri's requests to amend the following rules:

1. 10 CSR 10-6.040, Reference Methods, received November 6, 2013.

2. 10 CSR 10-6.040, Reference Methods, received November 20, 2014.

3. 10 CSR 10-6.020, Definitions and Common Reference Tables, received March 27, 2014.

4. 10 CSR 10-5.240, Additional Air Quality Control Measures May be Required When Sources are Clustered in a Small Land Area, received July 7, 2014.

5. 10 CSR 10-6.010, Air Quality Standards, received July 14, 2014.

The revisions submitted by the state include revisions to update standards and reference methods, to clarify, add or amend definitions and reference tables, to rescind an outdated rule, and to update and clarify ambient air quality standards. For more information on the state's submissions, specific revisions to each rule and EPA's review of the revisions, see the Technical Support Document (TSD) that is a part of this docket.

In the final rules section of this Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 62

Environmental protection, Air pollution control, Administrative practice and procedure, Intergovernmental relations, Reporting and recordkeeping requirements.

40 CFR Part 70

Environmental protection, Administrative practice and procedure, Air pollution control, Intergovernmental relations, Operating permits, Reporting and recordkeeping requirements.

Dated: February 13, 2015.
Karl Brooks,
Regional Administrator, Region 7.

For the reasons stated in the preamble, the Environmental Protection Agency proposes to amend 40 CFR parts 52, 62, and 70 as set forth below: Chapter I, title 40 of the Code of Federal Regulations is amended as follows:

PART 52—APPROVAL AND PROMULGATION OF IMPLEMENTATION PLANS

1. The authority citation for part 52 continues to read as follows:

Authority: 42 U.S.C. 7401 et seq.

Subpart AA—MISSOURI

2. In § 52.1320 the table in paragraph (c) is amended by:

a. Removing under Chapter 5, the entry for “10-5.240”; and

b. Revising under Chapter 6, the entries for “10-6.010”, “10-6.020”, and “10-6.040”.

The revisions read as follows:

§ 52.1320 Identification of Plan.

* * * * *

(c) * * *

EPA-Approved Missouri Regulations
Missouri citation | Title | State effective date | EPA Approval date | Explanation
Missouri Department of Natural Resources
* * * * * * *
Chapter 6—Air Quality Standards, Definitions, Sampling and Reference Methods, and Air Pollution Control Regulations for the State of Missouri
10 CSR 10-6.010 | Ambient Air Quality Standards | 7/30/14 | [date of publication of final rule] and [Insert Federal Register citation] | Hydrogen Sulfide and Sulfuric Acid state standards are not SIP approved.
10 CSR 10-6.020 | Definitions and Common Reference Tables | 3/30/14 | [date of publication of final rule] and [Insert Federal Register citation] | Many of the definitions pertain to Title V, 111(d) and asbestos programs and are approved in the SIP because they provide overall consistency in the use of terms in the air program. Similarly, the EPA has also approved this rule as part of the Title V program, and 111(d) even though many of the definitions pertain only to the SIP.
* * * * * * *
10 CSR 10-6.040 | Reference Methods | 11/30/14 | [date of publication of final rule] and [Insert Federal Register citation]
* * * * * * *

* * * * *

PART 62—APPROVAL AND PROMULGATION OF STATE PLANS FOR DESIGNATED FACILITIES AND POLLUTANTS

3. The authority citation for part 62 continues to read as follows:

Authority: 42 U.S.C. 7401 et seq.

Subpart AA—Missouri

* * * * *

4. Section 62.6350 is amended by adding paragraph (b)(6) to read as follows:

§ 62.6350 Identification of plan.

* * * * *

(b) * * *

(6) A revision to Missouri's 111(d) plan to incorporate state regulation 10 CSR 10-6.020 Definitions and Common Reference Tables was state effective March 30, 2014. The effective date of the amended plan is [60 DAYS AFTER DATE OF PUBLICATION OF FINAL RULE IN THE Federal Register].

* * * * *

PART 70—STATE OPERATING PERMIT PROGRAMS

5. The authority citation for part 70 continues to read as follows:

Authority: 42 U.S.C. 7401 et seq.

6. Appendix A to part 70 is amended by adding paragraph (cc) under Missouri to read as follows:

Appendix A to Part 70—Approval Status of State and Local Operating Permits Programs

* * * * *

Missouri

* * * * *

(cc) The Missouri Department of Natural Resources submitted revisions to Missouri rule 10 CSR 10-6.020, “Definitions and Common Reference Tables” on March 27, 2014. The state effective date is March 30, 2014. This revision is effective [60 DAYS AFTER DATE OF PUBLICATION OF FINAL RULE IN THE Federal Register].

* * * * *

[FR Doc. 2015-04399 Filed 3-3-15; 8:45 am]

BILLING CODE 6560-50-P